DEPARTMENT OF ENERGY

Federal Energy Regulatory Commission

[Docket No. RP98-117-012]

Kinder Morgan Interstate Gas; Transmission LLC; Notice of Filing of Refund Report

April 21, 2000.

Take notice that on April 18, 2000, Kinder Morgan Interstate Gas Transmission LLC (KMIGT) tendered for filing its Refund Report in Docket Nos. RP98-117, et al.

KMIGT states that this report is being filed in compliance with Article VI of the Offer of Settlement and Stipulation and Agreement (Settlement( which was filed in the above referenced proceeding and approved by a Commission Letter Order issued December 22, 1999 (89 FERC ¶ 61,323). KMIGT states that the refund was distributed by KMIGT on March 20, 2000, and is applicable to the period August 1, 1998, through December 31, 1999. All customers receiving refunds were served with calculations supporting their individual refunds. The refund was calculated pursuant to the provisions of Article VI of the Settlement.

KMIGT states that Appendix A of the Refund Report contains a summary of the refunds by shipper, service and contract for the refund period. Appendix B of the refund report contains detailed calculations supporting the determination of refunds for each individual shipper.

In light of the fact that each shipper receiving refunds was served with detailed calculations supporting their individual refunds, and given the voluminous nature of the shipper-specific information contained in Appendix B of the Refund Report, KMIGT states that only the letter and the summary information contained in Appendix A of this Refund Report has been served upon all affected customers of KMIGT and applicable state agencies.

Any person desiring to protest said filing should file a protest with the Federal Energy Regulatory Commission, 888 First Street, NE., Washington, DC 20426, in accordance with Section 385.211 of the Commission's Rules and Regulations. All such protests must be filed on or before April 28, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-10472 Filed 4-26-00; 8:45 am]

BILLING CODE 6717-01-M